DEPARTMENT OF HEALTH AND HUMAN SERVICES

Program Support Center

Agency Information Collection Activities: Submission for OMB Review; Comment Request

The Department of Health and Human Services, Program Support Center (PSC), publishes a list of information collections it has submitted to the Office of Management and Budget (OMB) for clearance in compliance with the Paperwork Reduction Act of 1995 (44 U.S.C. Chapter 35) and 5 CFR 1320.5. The following information collection was recently submitted to OMB:

1. Application Packets for Real Property for Public Health Purposes (Form Number: HHS 696)—Revision.

The Department of Health and Human Services administers a program to convey or lease surplus real property to States and their political subdivisions and instrumentalities, to tax-supported institutions, and to nonprofit institutions to be used for health purposes. State and local governments and nonprofit organizations use these applications to apply for excess/surplus, underutilized/unutilized and off-site Government real property. Information in the applications is used to determine eligibility to purchase, lease, or use property under the provisions of the surplus property program. The application instructions for the homeless or public health purposes are being revised to clarify some of the questions which will assist reviewers in making more informed determinations. No changes are being proposed for the environmental information form used to evaluate potential environmental effects of a proposal as required by the National Environmental Policy Act of 1969. Respondents: State, local or tribal governments; not-for-profit institutions; Total Number of Respondents: 32 per calendar year; Number of Responses per Respondent: one response per request; Average Burden per Response: 200 hours; Estimated Annual Burden: 6,400 hours.

OMB Desk Officer: Allison Eydt.

Copies of the information collection package listed above can be obtained by calling the PSC Reports Clearance Officer on (301) 443-1494. Written comments and recommendations for the proposed information collection should be sent directly to the OMB desk officer designated above at the following address: Human Resources and Housing Branch, Office of Management and Budget, New Executive Office Building, Room 10235, 725 17th Street NW., Washington, DC 20503.

Comments may also be sent to Irene S. West, PSC Reports Clearance Officer, Room 17A18, Parklawn Building, 5600 Fishers Lane, Rockville, MD 20857. Written comments should be received within 30 days of this notice.

Dated: May 1, 2001.
Curtis L. Coy,
Director, Program Support Center.

[FR Doc. 01-11734 Filed 5-9-01; 8:45 am]

BILLING CODE 4168-17-M